DEPARTMENT OF VETERANS AFFAIRS

[OMB Control No. 2900-NEW]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed in reviewing credentials of a licensed independent provider to deliver health care to VA beneficiaries.

DATES: Written comments and recommendations on the proposed collection of information should be received on or before June 14, 2002.

ADDRESSES: Submit written comments on the collection of information to Ann W. Bickoff (193B1), Department of Veterans Affairs, 810 Vermont Avenue, NW, Washington, DC 20420 or e-mail: ann.bickoff@hq.med.va.gov. Please refer to “OMB Control No. 2900-NEW” in any correspondence.

FOR FURTHER INFORMATION CONTACT: Ann W. Bickoff at (202) 273-8310 or FAX (202) 273-9381.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles

a. Credentials Transfer Brief, VA Form 10-0376a.

b. Credentials Supplemental Questions, VA Form 10-0376b.

OMB Control Number: 2900-NEW.

Type of Review: New collection.

Abstract: Currently VHA requires that credentialing occur prior to extension of initial employment offers to health care providers. The credentialing occurs upon employment, transfer, or at the time of initiating practice at a new site. Although credentialing may have been completed by one VHA facility, policy requires that the credentialing process be repeated by the receiving facility. VA Form 10-0376a improves the efficiencies of this process by facilitating the sharing of already verified health care provider's credential data between facilities and decreases the potential for duplication of efforts.

Affected Public: Not-for-profit Institutions; Business or other; and State, Local or Tribal governments.

Estimated Annual Burden: 6,750 hours.

a. Credentials Transfer Brief, VA Form 10-0376a-500 hours.

b. Credentials Supplemental Questions, VA Form 10-0376b-6,250 hours.

Estimated Average Burden Per Respondent: 11 minutes.

a. Credentials Transfer Brief, VA Form 10-0376a-60 minutes.

b. Credentials Supplemental Questions, VA Form 10-0376b-15 minutes.

Frequency of Response: One time.

Estimated Number of Respondents: 25,500.

a. Credentials Transfer Brief, VA Form 10-0376a-500.

b. Credentials Supplemental Questions, VA Form 10-0376b-25,000.

Dated: March 14, 2002.
By direction of the Secretary.
Donald L. Neilson,
Director, Information Management Service.

[FR Doc. 02-9006 Filed 4-12-02; 8:45 am]

BILLING CODE 8320-01-P